DEPARTMENT OF COMMERCE

National Oceanic and Atmospheric Administration

RIN 0648-XH88

Western Pacific Regional Fishery Management Council; Public Meeting

AGENCY: National Marine Fisheries Service (NMFS), National Oceanic and Atmospheric Administration (NOAA), Commerce.

ACTION: Notice of a public meeting.

SUMMARY: The 98th meeting of the Western Pacific Regional Fishery Management Council's (Council) Scientific and Statistical Committee (SSC) will convene Tuesday, June 10, 2008, through Thursday June 12, 2008. See SUPPLEMENTARY INFORMATION for agenda items.

DATES: The SSC meeting will be held will be held between 9 a.m. and 5 p.m. on Tuesday, June 10, 2008, and between 8:30 a.m. and 5 p.m. on Wednesday and Thursday, June 11-12, 2008.

ADDRESSES: The SSC meeting will be held at the Council Office Conference Room, 1164 Bishop St., Suite 1400, Honolulu, HI; telephone: (808) 522-8220.

FOR FURTHER INFORMATION CONTACT: Kitty M. Simonds, Executive Director; telephone: (808) 522-8220.

SUPPLEMENTARY INFORMATION:

Tuesday, June 10, 2008, 9 a.m.

1. Introductions

2. Approval of Draft Agenda and Assignment of Rapporteurs

3. Status of the 97th SSC Meeting Recommendations

4. Report from the Pacific Fisheries Science Center Director

5. Program Planning

A. Annual Catch Limits (Action Item)

B. Barter, Trade, Subsistence Management Options (Action Item)

C. Background on Barter, Trade and Subsistence in Pacific Fisheries

D. Hawaii Archipelago Advisory Panel Report

E. Public Comment

F. Discussion and Action

6. Insular Fisheries

A. Bottomfish Risk Assessment Model (Action Item)

B. Hawaii Archipelago Advisory Panel Report

C. Hawaii Archipelago Plan Team Report

D. Public Comment

E. Discussion and Action

Wednesday, June 11, 2008, 8:30 a.m.

7. Pelagic Fisheries

A. Longline Management

1. Hawaii Swordfish Fishery Effort (Action Item)

2. Susceptibility Quasi-Extinction Analysis

B. Non-Longline Management

1. Non-Longline Pelagic Fishery Management (Action Item)

2. FAD Management Options (Action Item)

C. American Samoa and Hawaii Longline Quarterly Reports

D. International Fisheries/Meetings

1. Tuna Round Table

2. North Pacific Regional Fishery Management Organization Science Committee meeting

3. Inter-American Tropical Tuna Commission meeting

E. Hawaii Archipelago Advisory Panel Report

F. Pacific Pelagic Plan Team Report

G. Public Comment

H. Discussion and Action

8. Protected Species

A. Council's Turtle Advisory Committee meeting

B. Public Comment

C. Discussion and Action

Thursday, June 12, 2008, 8:30 a.m.

9. Other Business

A. Marine Protected Area update

B. 99th SSC Meeting

10. Summary of SSC Recommendations to the Council

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 9, 2008.
Tracey L. Thompson,
Acting Director, Office of Sustainable Fisheries, National Marine Fisheries Service.

[FR Doc. E8-10718 Filed 5-13-08; 8:45 am]

BILLING CODE 3510-22-S